DEPARTMENT OF TRANSPORTATION

Federal Aviation Administration

14 CFR Part 39

[Docket No. 2001-NM-339-AD]

RIN 2120-AA64

Airworthiness Directives; Airbus Model A319 and A320 Series Airplanes

AGENCY: Federal Aviation Administration, DOT.

ACTION: Notice of proposed rulemaking (NPRM).

SUMMARY: This document proposes the supersedure of an existing airworthiness directive (AD), applicable to certain Airbus Model A319 and A320 series airplanes, that currently requires repetitive inspections to detect cracking and delamination of the containers in which the off-wing emergency evacuation slides are stored, and corrective actions if necessary. That AD also requires eventual modifications of the slides, which terminates the requirement for repetitive inspections. This action would remove the currently required repetitive inspections, and would require an additional modification of the off-wing emergency evacuation slides. The actions specified by the proposed AD are intended to prevent the loss of the emergency evacuation slides during flight, which could result in damage to the fuselage, and to prevent incorrect inflation of the emergency evacuation slides, which could result in the emergency exits being unusable during an emergency evacuation. This action is intended to address the identified unsafe condition.

DATES: Comments must be received by February 4, 2004.

ADDRESSES: Submit comments in triplicate to the Federal Aviation Administration (FAA), Transport Airplane Directorate, ANM-114, Attention: Rules Docket No. 2001-NM-339-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-339-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-339-AD.” The postcard will be date stamped and returned to the commenter.

Availability of NPRMs

Any person may obtain a copy of this NPRM by submitting a request to the FAA, Transport Airplane Directorate, ANM-114, Attention: Rules Docket No. 2001-NM-339-AD, 1601 Lind Avenue, SW., Renton, Washington 98055-4056.

Discussion

On December 17, 1999, the FAA issued AD 99-26-22, amendment 39-11481 (64 FR 72533, December 28, 1999), applicable to certain Airbus Model A319 and A320 series airplanes. That AD requires repetitive inspections to detect cracking and delamination of the containers in which the off-wing emergency evacuation slides are stored, and corrective actions if necessary. That AD also requires eventual modifications of the slides, which terminates the requirement for repetitive inspections. That action was prompted by issuance of mandatory continuing airworthiness information by a foreign civil airworthiness authority. The requirements of that AD are intended to prevent the loss of the escape slides during flight, which could make the emergency exits located over each wing unusable and result in damage to the fuselage.

Actions Since Issuance of Previous Rule

Since the issuance of AD 99-26-22, further evaluation of the inspections required by that AD has revealed that the inspections are not sufficient to ensure the continued safety of the affected airplane fleet. In fact, maintenance actions, such as those associated with the required inspections, may increase the likelihood of loss of the emergency evacuation slides during flight, rather than preventing such loss. Thus, it has been determined that continued operating safety can best be ensured by modification of the off-wing emergency evacuation slides. AD 99-26-22 already requires such a modification of the off-wing emergency evacuation slides in accordance with Airbus Service Bulletin A320-25-1156, Revision 01, dated February 2, 1999. The parallel French airworthiness directive provided for that action as optional.

Also since the issuance of AD 99-26-22, the DGAC has notified us that an additional unsafe condition may exist on certain Model A319 and A320 series airplanes. The DGAC advises that there have been several incidents of incorrect deployment of the overwing emergency evacuation slides. These incidents have been attributed to migration of the aspirator within the slide pack. This condition, if not corrected, could lead to incorrect inflation of the overwing emergency evacuation slide, which could result in the emergency exits being unusable during an emergency evacuation.

Explanation of Relevant Service Information

Airbus has issued Service Bulletin A320-25-1156, Revision 02, dated October 26, 1999. The modification of the off-wing emergency evacuation slides described in Revision 02 is essentially the same as that described in Revision 01 of the service bulletin, which AD 99-26-22 refers to as an appropriate source of service information for the modification required by that AD. (The procedures for the modification include performing an inspection for delamination of the containers and container doors of the off-wing emergency evacuation slides, and repair of any delamination that is found.) Airbus Service Bulletin A320-25-1156, Revision 02, refers to Air Cruisers Service Bulletins 004-25-37, Revision 02, dated May 29, 1996; and 004-25-42, dated September 16, 1996; as additional sources of service information for accomplishment of the modification of the off-wing emergency evacuation slides.

Airbus also has issued Service Bulletin A320-25-1265, dated June 6, 2001, which describes procedures for another modification of the emergency evacuation slides. This modification involves installing:

• A standoff and a new lacing cover to prevent the aspirator of the off-wing emergency evacuation slide from migrating.

• A valve protector to prevent the aspirator of the off-wing emergency evacuation slide from hanging up.

• An in-line check valve to prevent pressurized cabin air from leaking into the packed inflatable slide assembly via the remote inflation system mounted in the cargo hold of the airplane.

Airbus Service Bulletin A320-25-1265 refers to Air Cruisers Service Bulletin 004-25-48, Revision 3, dated August 3, 2001, as an additional source of service information for modification and re-identification of the evacuation slides.

The DGAC classified Airbus Service Bulletins A320-25-1156, Revision 02, and A320-25-1265 as mandatory and issued French airworthiness directive 2001-380(B), dated September 5, 2001, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 99-26-22 to continue to require a modification of the off-wing emergency evacuation slides. This proposed AD would remove the currently required repetitive inspections, and require an additional modification of the off-wing emergency evacuation slides. The actions would be required to be accomplished in accordance with Airbus Service Bulletins A320-25-1156, Revision 02, and A320-25-1265.

Cost Impact

The modification per Airbus Service Bulletin A320-25-1156, Revision 02, is currently required by AD 99-26-22, which is applicable to approximately 121 airplanes of U.S. registry. This modification takes approximately 3 work hours per airplane to accomplish (not including time for gaining access and closing up), at an average labor rate of $65 per work hour. The cost of required parts is now approximately $679 per airplane. Based on these figures, the cost impact of this current requirement is estimated to be $105,754, or $874 per airplane.

The new requirements of this proposed AD would affect approximately 435 airplanes of U.S. registry.

The new actions that are proposed in this AD action would take approximately 3 work hours per airplane to accomplish, at an average labor rate of $65 per work hour. Required parts would cost approximately $80 per airplane. Based on these figures, the cost impact of this new proposed requirement is estimated to be $119,625, or $275 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11481 (64 FR 72533, December 28, 1999), and by adding a new airworthiness directive (AD), to read as follows:

Airbus: Docket 2001-NM-339-AD. Supersedes AD 99-26-22, Amendment 39-11481.

Applicability: Model A319 and A320 series airplanes, certificated in any category; except airplanes that have Airbus Modifications 24850 and 25844 and 27275 installed in production; or that have Airbus Service Bulletin A320-25-1156, Revision 01, dated February 2, 1999; or Revision 02, dated October 26, 1999; and Airbus Service Bulletin A320-25-1265, dated June 6, 2001; accomplished.

Compliance: Required as indicated, unless accomplished previously.

To prevent the loss of the emergency evacuation slides during flight, which could result in damage to the fuselage, and to prevent incorrect inflation of the emergency evacuation slides, which could result in the emergency exits being unusable during an emergency evacuation, accomplish the following:

Restatement of Requirements of AD 99-26-22

Terminating Modification

(a) For airplanes on which Airbus Modifications 24850 and 25844; or Airbus Service Bulletin A320-25-1156, Revision 01, dated February 2, 1999, or Revision 02, dated October 26, 1999; have not been accomplished: Within 5 years after February 1, 2000, modify the off-wing emergency evacuation slides (i.e., modifications, inspection, repair, and repacking) in accordance with Airbus Service Bulletin A320-25-1156, Revision 01, dated February 2, 1999; or Revision 02, dated October 26, 1999. After the effective date of this AD, only Revision 02 may be used.

Note 1: Airbus Service Bulletin A320-25-1156, Revision 01, dated February 2, 1999; and Revision 02, dated October 26, 1999; refer to Air Cruisers Service Bulletins 004-25-37, Revision 2, dated May 29, 1996, and 004-25-42, dated September 16, 1996, as additional sources of service information for accomplishment of the modification of the off-wing escape slides.

New Requirements of This AD

(b) For airplanes listed in Airbus Service Bulletin A320-25-1265, dated June 6, 2001: Within 3 years after the effective date of this AD, modify the left and right off-wing emergency evacuation slides in accordance with the Accomplishment Instructions of that service bulletin.

Note 2: Airbus Service Bulletin A320-25-1265, dated June 6, 2001, refers to Air Cruisers Service Bulletins 004-25-48, Revision 3, dated August 3, 2001, as an additional source of service information for accomplishment of the modification of the off-wing emergency evacuation slides.

Spares

(c) As of the effective date of this AD, no person may install, on any airplane, an off-wing emergency evacuation slide having part number D31865-101, -102, -103, -104, -105, -106, -107, or -108.

Alternative Methods of Compliance

(d) In accordance with 14 CFR 39.19, the Manager, International Branch, ANM-116, FAA, is authorized to approve alternative methods of compliance for this AD.

Note 3: The subject of this AD is addressed in French airworthiness directive 2001-380(B), dated September 5, 2001.

Issued in Renton, Washington, on December 29, 2003.
Ali Bahrami,
Acting Manager, Transport Airplane Directorate, Aircraft Certification Service.

[FR Doc. 04-51 Filed 1-2-04; 8:45 am]

BILLING CODE 4910-13-P